NATIONAL AERONAUTICS AND SPACE ADMINISTRATION

[Notice: (23-094)]

Performance Review Board, Senior Executive Service (SES)

AGENCY: National Aeronautics and Space Administration (NASA).

ACTION: Notice of Membership of SES Performance Review Board.

SUMMARY: The Civil Service Reform Act of 1978, requires that appointments of individual members to the Performance Review Board (PRB) be published in the Federal Register. The performance review function for the SES in NASA is being performed by the NASA PRB. The following individuals are serving on the Board:

Performance Review Board

Chairperson, Associate Administrator

Deputy Associate Administrator

Chief Human Capital Officer

Director for Executive Services

Associate Administrator for the Office of Diversity and Equal Opportunity

Associate Administrator for the Aeronautics Research Mission Directorate

Procurement Assistant Administrator

Center Director, Langley Research Center

Cheryl Parker,
Federal Register Liaison Officer.

[FR Doc. 2023-19393 Filed 9-7-23; 8:45 am]

BILLING CODE 7510-13-P